DEPARTMENT OF ENERGY

Federal Energy Regulatory Commission

[Project No. 1927-008]

Pacificorp; Notice

July 11, 2000.

Vince Yearick, of the Commission's Office of Energy Projects, (202) 219-3073, has been assigned to participate in any settlement discussions that may transpire in the above-captioned proceeding. He has been separated from, and will not participate as, advisory staff in this proceeding.

David P. Boergers,
Secretary.

[FR Doc. 00-17966 Filed 7-14-00; 8:45 am]

BILLING CODE 6717-01-M